DEPARTMENT OF THE INTERIOR

National Park Service

[NPS-AKR-CAKR-12504; PPAKAKROR4; PPMPRLE1Y.LS0000]

Notice of Open Public Meetings for the National Park Service Alaska Region's Subsistence Resource Commission Program for Calendar Year 2013

AGENCY: National Park Service (NPS), Interior.

ACTION: Meeting notice.

SUMMARY: As required by the Federal Advisory Committee Act (Public Law 92-463, 86 Stat. 770), the NPS is hereby giving notice that the Cape Krusenstern National Monument Subsistence Resource Commission (SRC) will hold meetings to develop and continue work on NPS subsistence program recommendations and other related subsistence management issues. The NPS SRC program is authorized under Title VIII, Section 808 of the Alaska National Interest Lands Conservation Act, Public Law 96-487.

Cape Krusenstern National Monument SRC Meeting Date and Location: The Cape Krusenstern National Park SRC will meet from 9:00 a.m. to 5:00 p.m. on Tuesday, April 30 to Wednesday, May 1, 2013, at the National Park Service Northwest Arctic Heritage Center, (907) 442-3890, in Kotzebue, AK. SRC meeting locations and dates may change based on inclement weather or exceptional circumstances. If the meeting date and location are changed, the Superintendent will issue a press release and use local newspapers and radio stations to announce the meeting.

Cape Krusenstern National Monument SRC Proposed Meeting Agenda: The proposed meeting agenda includes the following:

1. Call to Order—Confirm Quorum

2. Welcome and Introductions

3. Review and Adoption of Agenda

4. Approval of Minutes

5. Superintendent's Welcome and Review of the Commission Purpose

6. Commission Membership Status

7. SRC Chair and SRC Members' Reports

8. Superintendent's Report

9. Old Business

a. Update on National Park Service Local Hire Program

b. Update on Department of the Interior Tribal Consultation Policies

c. Human/Wildlife Conflict

d. Status of Musk Ox Hunt

10. New Business

a. Red Dog Road Study Update

b. Marine Resources (Seals/Walrus)

11. Federal Subsistence Board Update

12. Alaska Boards of Fish and Game Update

13. National Park Service Reports

a. Ranger Update

b. Resource Management Update

c. Subsistence Manager's Report

14. Public and Other Agency Comments

15. Work Session

16. Set Tentative Date and Location for Next Subsistence Resource Commission Meeting

17. Adjourn Meeting

For Further Information Contact Designated Federal Official: Frank Hays, Superintendent, or Willie Goodwin, Subsistence Manager, at (907) 442-3890 or Clarence Summers, Subsistence Manager, at (907) 644-3603. If you are interested in applying for Cape Krusenstern National Monument SRC membership, contact the Superintendent at Cape Krusenstern National Monument, P.O. Box 1029, Kotzebue, AK 99752, or visit the monument's Web site at: http://www.nps.gov/cakr/contacts.htm.

SUPPLEMENTARY INFORMATION: These meetings are open to the public and will have time allocated for public testimony. The public is welcome to present written or oral comments to the SRC. The meetings will be recorded and meeting minutes will be available upon request from the superintendent for public inspection approximately six weeks after the meeting. Before including your address, telephone number, email address, or other personal identifying information in your comment, you should be aware that your entire comment—including your personal identifying information—may be made publicly available at any time. While you can ask us in your comment to withhold your personal identifying information from public review, we cannot guarantee that we will be able to do so.

Dated: March 7, 2013.
Debora Cooper,
Associate Regional Director, Resources and Subsistence, Alaska Region.

[FR Doc. 2013-06422 Filed 3-20-13; 8:45 am]

BILLING CODE 4312-EF-P